LIBRARY OF CONGRESS

Copyright Office

[Docket No. 2000-2 CARP CD 93-97]

Distribution of 1993, 1994, 1995, 1996 and 1997 Cable Royalty Funds

AGENCY: Copyright Office, Library of Congress.

ACTION: Initiation of arbitration.

SUMMARY: The Librarian of Congress is announcing initiation of the 180-day arbitration period for the Phase II distribution of the 1997 cable royalty funds for the syndicated programming category.

EFFECTIVE DATE: October 17, 2000.

ADDRESSES: All hearings and meetings for the Phase II cable distribution proceeding shall take place in the James Madison Memorial Building, Room LM-414, First and Independence Avenue, S.E., Washington, D.C. 20540.

FOR FURTHER INFORMATION CONTACT: David O. Carson, General Counsel, or William J. Roberts, Jr., Senior Attorney for Compulsory Licenses, P.O. Box 70977, Southwest Station, Washington, D.C. 20024. Telephone: (202) 707-8380. Telefax: (202) 252-3423.

SUPPLEMENTARY INFORMATION:

Background

By Order dated January 12, 2000, the Library consolidated all Phase II controversies in Docket Nos. 96-7 CARP CD 93-94, 97-2 CARP CD 95, 98-2 CARP CD 96 and 99-5 CARP CD 97 into a single distribution proceeding and announced the precontroversy discovery schedule for a Phase II distribution proceeding in the syndicated programming category. All controversies in this category have reached settlement, except for a dispute between certain claimants represented by the Independent Producers Group (“IPG”), and certain claimants represented by the Motion Picture Association of America, Inc. (“Program Suppliers”), for distribution of the 1997 royalty funds collected under the cable statutory license of the Copyright Act. 17 U.S.C. 111. The Library has completed the discovery phase of the proceeding between IPG and Program Suppliers, and the case is now ready for submission to a Copyright Arbitration Royalty Panel (“CARP”) for arbitration proceedings.

Selection of Arbitrators

In accordance with § 251.6 of the CARP rules, the arbitrators for this proceeding have been selected. They are:

The Honorable Dorothy K. Campbell (Chairperson)

The Honorable John W. Cooley

The Honorable Mark J. Davis

Initiation of Proceeding

Pursuant to § 251.72 of the CARP rules, the Librarian is formally announcing the existence of a controversy as to the distribution of 1997 cable royalties in the syndicated programming category and is initiating an arbitration proceeding under chapter 8 of title 17 to resolve the distribution. The arbitration proceeding commences on October 17, 2000, and runs for a period of 180 days. The arbitrators shall file their written report with the Librarian no later than April 16, 2001, in accordance with § 251.53 of the rules.

A meeting between the parties in this proceeding and the arbitrators shall take place on Tuesday, October 17, at 2 p.m. at the Library of Congress, James Madison Memorial Building, Room LM-414, First and Independence Avenue, S.E., Washington, D.C., to discuss the hearing schedule, resolution of designated issues, and other matters. The meeting is open to the public. Copies of the hearing schedule, once finalized, will be available at the Copyright Office upon request.

Dated: October 6, 2000.
David O. Carson,
General Counsel.

[FR Doc. 00-26165 Filed 10-11-00; 8:45 am]

BILLING CODE 1410-33-P